FEDERAL COMMUNICATIONS COMMISSION

47 CFR Part 20

[AU Docket No. 14-252, GN Docket No. 12-268, WT Docket No. 12-269; MB Docket No. 15-146, Report No. 3033]

Petitions for Reconsideration and Clarification of Action in Rulemaking Proceeding

AGENCY: Federal Communications Commission.

ACTION: Petitions for reconsideration and clarification.

SUMMARY: Petitions for Reconsideration and Clarification (Petitions) have been filed in the Commission's rulemaking proceeding by: Rick Kaplan, on behalf of the National Association of Broadcasters (two petitions) and D. Cary Mitchell, on behalf of the Blooston Rural Carriers.

DATES: Oppositions to the Petitions must be filed on or before December 16, 2015. Replies to an opposition must be filed on or before December 28, 2015.

ADDRESSES: Federal Communications Commission, 445 12th Street SW., Washington, DC 20554.

FOR FURTHER INFORMATION CONTACT: Mark Montano, Wireless Telecommunications Bureau, (202) 418-0691, email: mark.montano@fcc.gov.

SUPPLEMENTARY INFORMATION: This is a summary of Commission's document, Report No. 3033, released November 24, 2015. The full text of the Petitions is available for viewing and copying at the FCC Reference Information Center, 445 12th Street SW., Room CY-A257, Washington, DC 20554 or may be accessed online via the Commission's Electronic Comment Filing System at http://apps.fcc.gov/ecfs/. The Commission will not send a copy of this Public Notice pursuant to the Congressional Review Act, 5 U.S.C. 801(a)(1)(A), because this Public Notice does not have an impact on any rules of particular applicability.

Subject: Broadcast Auction Scheduled to Begin March 29, 2016; Procedures for Competitive Bidding in Auction 1000, Including Initial Clearing Target Determination, Qualifying to Bid, and Bidding in Auctions 1001 (Reverse) and 1002 (Forward), published at 80 FR 61918, October 14, 2015, in AU Docket No. 14-252, GN Docket No. 12-268, WT Docket No. 12-269, MB Docket No. 15-146, Public Notice, and FCC 15-78. This Public Notice is being published pursuant to 47 CFR 1.429(e). See also 47 CFR 1.4(b)(1).

Number of Petitions Filed: 3.

Federal Communications Commission.
Gloria J. Miles,
Federal Register Liaison Officer. Office of the Secretary.

[FR Doc. 2015-30477 Filed 11-30-15; 8:45 am]

BILLING CODE 6712-01-P